GENERAL SERVICES ADMINISTRATION

[OMB Control No. 3090-0235; Docket 2011-0001; Sequence 10]

General Services Administration Acquisition Regulation; Information Collection; Price Reductions Clause; Extension of Comment Period

AGENCY: Office of Acquisition Policy; General Services Administration (GSA)

ACTION: Notice; extension of comment period.

SUMMARY: This document extends the comment closing date of the notice of request for comments regarding OMB Control No. 3090-0235, Price Reductions Clause, published in the Federal Register at 76 FR 81941, on December 29, 2011.

DATES: Submit comments on or before April 16, 2012.

ADDRESSES: Submit comments identified by Information Collection 3090-0235, Price Reductions Clause, by any of the following methods:

• Regulations.gov: http://www.regulations.gov. Submit comments via the Federal eRulemaking portal by inputting “Information Collection 3090-0235, Price Reductions Clause,” under the heading “Enter Keyword or ID” and selecting “Search.” Select the link “Submit a Comment” that corresponds with “Information Collection 3090-0235, Price Reductions Clause.” Follow the instructions provided at the “Submit a Comment” screen. Please include your name, company name (if any), and “Information Collection 3090-0235, Price Reductions Clause” on your attached document.

• Fax: 202-501-4067.

• Mail: General Services Administration, Regulatory Secretariat (MVCB), 1275 First Street NE., Washington, DC 20417. ATTN: Hada Flowers/IC 3090-0235, Price Reductions Clause.

Instructions: Please submit comments only and cite Information Collection 3090-0235, Price Reductions Clause, in all correspondence related to this collection. All comments received will be posted without change to http://www.regulations.gov, including any personal and/or business confidential information provided.

FOR FURTHER INFORMATION CONTACT: Ms. Dana Munson, Procurement Analyst, at (202) 357-9652. Please cite OMB Control No. 3090-0235, Price Reductions Clause.

SUPPLEMENTARY INFORMATION:

A. Purpose

The clause at GSAR 552.238-75, Price Reductions, used in multiple award schedule contracts ensures that the Government maintains its relationship with the contractor's customer or category of customers, upon which the contract is predicated. The reason for the burden decrease as it exists now is based on current data updating the number of MAS Schedule contractors.

Dated: March 8, 2012.
Mindy S. Connolly,
Chief Acquisition Officer, U.S. General Services Administration.

[FR Doc. 2012-6273 Filed 3-14-12; 8:45 am]

BILLING CODE 6820-61-P